FEDERAL COMMUNICATIONS COMMISSION

Privacy Act System of Records

AGENCY: Federal Communications Commission.

ACTION: Notice of amendments to an existing system of records; two new routine use(s).

SUMMARY: The Federal Communications Commission (FCC or Commission) is amending an existing system of records, FCC/MB-1, Ownership Reports for Commercial and Noncommercial Broadcast Stations (previously FCC/MB-1, Ownership Report for Commercial Broadcast Stations), subject to the Privacy Act of 1974, as amended. This action is necessary to meet the requirements of the Privacy Act to publish in the Federal Register notice of the existence and character of records maintained by the agency. The FCC's Media Bureau (MB) will use the information contained in this altered system of records to administer the Commission's regulatory responsibilities that relate to ownership of commercial broadcast stations, including AM and FM radio and television (full power, Class A, and low power); ownership of noncommercial broadcast stations, including AM and FM radio and full-power television; and ownership of interests in daily newspapers that are subject to the Commission's media ownership rules.

DATES: Written comments are due on or before November 18, 2016. This action will become effective on November 28, 2016 unless comments are received that require a contrary determination.

ADDRESSES: Send comments to Leslie F. Smith, Privacy Manager, Information Technology (IT), Room 1-C216, Federal Communications Commission, 445 12th Street SW., Washington, DC 20554, or to Leslie.Smith@fcc.gov.

FOR FURTHER INFORMATION CONTACT: Leslie F. Smith, (202) 418-0217, or Leslie.Smith@fcc.gov, and to obtain a copy of the Narrative Statement, which includes details of the proposed alterations to this system of records.

SUPPLEMENTARY INFORMATION: The FCC previously gave notice of this system of records, FCC/MB-1, Ownership Reports for Commercial and Noncommercial Broadcast Stations (previously FCC/MB-1, Ownership Report for Commercial Broadcast Stations), by publication in the Federal Register on November 19, 2009 (74 FR 59978). This notice serves to update and amend FCC/MB-1 as a result of revised requirements that the FCC adopted for reporting certain ownership and/or attributable interests in broadcast stations.

FCC/MB-1

SYSTEM NAME:

Ownership Reports for Commercial and Noncommercial Broadcast Stations.

SECURITY CLASSIFICATION:

The Federal Communications Commission (FCC) Chief Information Officer (CIO) team will provide a security classification to this system based on NIST FIPS 199 standards.

SYSTEM LOCATION:

Media Bureau (MB), Federal Communications Commission (FCC), 445 12th Street SW., Washington, DC 20554.

CATEGORIES OF INDIVIDUALS COVERED BY THE SYSTEM:

The categories of individuals covered by this system include but are not limited to:

(1) Licensees, permittees, and respondents, and other individuals or entities with interests therein that are required to file or have their interests reported on:

(a) FCC Form 2100, Schedule 323, “Ownership Report for Commercial Broadcast Stations” (formerly FCC Form 323) pursuant to 47 CFR 73.3615, 73.6026, and 74.797; and/or

(b) FCC Form 2100, Schedule 323-E, “Ownership Report for Noncommercial Broadcast Stations” (formerly FCC Form 323-E) pursuant to 47 CFR 73.3615;

(2) Contact individuals reported on:

(a) Form 2100, Schedule 323 (formerly Form 323), e.g., representatives, relating to commercial AM, FM, and television (full power, Class A, and low power) broadcast stations, and/or newspapers that are subject to the Commission's media ownership rules, as required under 47 CFR 73.3555, etc.; and/or

(b) Form 2100, Schedule 323-E (formerly Form 323-E), e.g., representatives, relating to noncommercial AM, FM, and full-power television broadcast stations;

(3) Individuals with ownership or attributable interests in media companies subject to the Commission's ownership rules or otherwise required to be reported on Form 2100, Schedule 323 (formerly Form 323), and/or Form 2100, Schedule 323-E (formerly Form 323-E); and

(4) Individuals who are married to or related (i.e., parent-child or siblings, etc.) to other individuals who have attributable, reportable, and/or ownership interests and who must either file Form 2100, Schedule 323 (formerly Form 323), or have their interests reported on Form 2100, Schedule 323 (formerly Form 323).

CATEGORIES OF RECORDS IN THE SYSTEM:

The categories of records in this system include but are not limited to:

(1) Information that is required to be submitted on Form 2100, Schedule 323 (formerly Form 323), and/or Form 2100, Schedule 323-E (formerly Form 323-E), including the ownership or other interests of the licensee/permittee/respondent, mailing address, telephone number, email address, FCC Registration Number (FRN), Restricted Use FRN (RUFRN), listing type, relationship to licensee/permittee/respondent/other interest holder, positional interest, joint interest status, Tribal Nation/entity status, marital/familial relationship, and gender, ethnicity, race, and citizenship, etc.;

(2) All exhibits, organizational charts, correspondence, i.e., letters, etc., supporting documentation, and other materials, etc., which are associated with processing Form 2100, Schedule 323 (formerly Form 323), and Form 2100, Schedule 323-E (formerly Form 323-E) submissions; and

(3) Any other records that are submitted in connection with or created as the result of the filing of Form 2100, Schedule 323 (formerly Form 323), and/or Form 2100, Schedule 323-E (formerly Form 323-E).

AUTHORITY FOR MAINTENANCE OF THE SYSTEM:

47 CFR 73.3555, 73.3615, 73.6026, and 74.797.

PURPOSES:

The information obtained from Form 2100, Schedule 323 (formerly Form 323), and Form 2100, Schedule 323-E (formerly Form 323-E) submissions is kept to administer the Commission's regulatory responsibilities that relate to the ownership of commercial broadcast stations, including AM and FM radio and television (full power, Class A, and low power); ownership of noncommercial broadcast stations, including AM and FM radio and full-power television; and ownership of interests in daily newspapers that are subject to the Commission's media ownership rules. The Commission uses these records in this system:

(1) To assess the data contained in responses to Form 2100, Schedule 323 (formerly Form 323), and/or Form 2100, Schedule 323-E (formerly Form 323-E), which the Commission uses to evaluate licensees' or permittees' compliance with the Commission's media ownership rules, etc., and other related uses. These forms are filed:

(a) To satisfy the biennial filing requirement (Biennial Ownership Report);

(b) As a validation and resubmission of a previously filed Biennial Ownership Report;

(c) In connection with the transfer of control or assignment of a broadcast station;

(d) By a permittee within 30 days after the grant of a construction permit and on the date that the permittee files its license application;

(e) As a certification of accuracy of the initial or post-consummation Ownership Report filed by the permittee in conjunction with its application for a station license; or

(f) As an amendment of a previously filed Ownership Report.

(2) To undertake studies of minority and female ownership that include but are not limited to: Studies that support the Commission's diversity policy goals and other ownership studies to support its statutory requirement to review the media ownership goals quadrennially to determine whether they are necessary in the public interest as the result of competition.

(3) Any other uses of Form 2100, Schedule 323 (formerly Form 323), and/or Form 2100, Schedule 323-E (formerly Form 323-E), within the Commission's authority.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected.

1. Public Access—Under the rules of the Commission, documents filed in MB's Consolidated Database System (CDBS) are publicly available. Form 2100, Schedule 323, and Form 2100, Schedule 323-E—the revised versions of Forms 323 and 323-E, respectively—will be implemented in MB's Licensing and Management System (LMS). Documents filed in LMS are publicly available via the Commission's Web site;

2. Adjudication and Litigation—To the Department of Justice (DOJ), or other administrative body before which the FCC is authorized to appear, when: (a) The FCC or any component thereof; or (b) any employee of the FCC in his or her official capacity; or (c) any employee of the FCC in his or her individual capacity where DOJ or the FCC has agreed to represent the employee; or (d) the United States is a party to litigation or has an interest in such litigation, and the use of such records by the DOJ or the FCC is deemed by the FCC to be relevant and necessary to the litigation;

3. Financial Obligations under the Debt Collection Acts—To other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

4. Law Enforcement and Investigation—To disclose pertinent information to the appropriate Federal, State, or local agency responsible for investigating, prosecuting, enforcing, or implementing a statute, rule, regulation, or order, where the FCC becomes aware of an indication of a violation or potential violation of a civil or criminal law or regulation;

5. Congressional Inquiries—To provide information to a congressional office from the record of an individual in response to an inquiry made from that congressional office made at the request of that individual;

6. Government-wide Program Management and Oversight—To the National Archives and Records Administration (NARA) for use in its records management inspections; to the Government Accountability Office (GAO) for oversight purposes; to DOJ in order to obtain that department's advice regarding disclosure obligations under the Freedom of Information Act (FOIA); or to the Office of Management and Budget (OMB) in order to obtain that office's advice regarding obligations under the Privacy Act;

7. Breach Notification—To appropriate agencies, entities, and persons when (a) the Commission suspects or has confirmed that the security or confidentiality of information in the system of records has been compromised; (b) the Commission has determined that as a result of the suspected or confirmed compromise there is a risk of harm to economic or property interests, identity theft or fraud, or harm to the security or integrity of this system or other systems or programs (whether maintained by the Commission or another agency or entity) that rely upon the compromised information; and (c) the disclosure made to such agencies, entities, and persons is reasonably necessary to assist in connection with the Commission's efforts to respond to the suspected or confirmed compromise and prevent, minimize, or remedy such harm; and

8. Non-Federal Personnel—To disclose information to contractors performing or working on a contract for the Federal Government.

DISCLOSURE TO CONSUMER REPORTING AGENCIES:

None.

POLICIES AND PRACTICES FOR STORING, RETRIEVING, ACCESSING, RETAINING, AND DISPOSING OF RECORDS IN THE SYSTEM:

STORAGE:

The Broadcast Station Ownership database is the repository for all electronically filed ownership reports and associated information, including exhibits (e.g., organizational charts, appendices, scanned images, and all other supplementary documents and materials, etc.). All Form 323 and Form 323-E filings must be submitted electronically (e.g., paper copy filings are not acceptable). Form 323 and Form 323-E filings are currently submitted via CDBS, at https://www.fcc.gov/media/filing-systems-and-databases. Filings on Form 2100, Schedule 323, and Form 2100, Schedule 323-E—the revised versions of Forms 323 and 323-E, respectively—will be submitted electronically via LMS, at https://enterpriseefiling.fcc.gov/dataentry/login.html.

RETRIEVABILITY:

Information in this system is publicly retrievable. The information may be viewed via the “Public Access” Search functionality in CDBS, at https://www.fcc.gov/media/filing-systems-and-databases, by clicking on the “Ownership Search” link. Information may be retrieved by searching electronically using a variety of parameters including the call sign, facility ID number, service, file number, application type, channel, frequency, community of license city and state, name of the licensee/permittee, or name/address of the person or entity holding the interest reported on Form 323 or Form 323-E. All ownership data can also be downloaded via a set of files that correspond to database tables from the Media Bureau Public CDBS Database Files Web site: https://www.fcc.gov/media/radio/cdbs-database-public-files. Information is retrieved internally via database commands by authorized FCC staff and contractors who have been granted permission to access the data. Form 2100, Schedule 323, and Form 2100, Schedule 323-E—the revised versions of Forms 323 and 323-E, respectively—will be implemented in LMS. Information filed in LMS may be viewed via the “LMS Public Search” functionality in LMS, at https://enterpriseefiling.fcc.gov/dataentry/login.html. LMS Public Database Tables may be downloaded from the LMS Public Database Files Web site: https://enterpriseefiling.fcc.gov/dataentry/public/tv/lmsDatabase.html.

SAFEGUARDS:

Information in these records and files is available to the public via the FCC Internet portal at: https://www.fcc.gov/media/filing-systems-and-databases. Access to the ownership records housed in the CDBS and LMS databases is restricted to authorized MB supervisory and staff and IT staff and contractors, who maintain the CDBS and LMS network computer databases. Other FCC staff and contractors may be granted access to this information, only on a “need-to-know” basis.

The CDBS and LMS databases are part of the FCC's computer network databases. The FCC's computer network is protected by a comprehensive and dynamic set of IT safety and security protocols and features that are designed to meet all Federal IT privacy standards, including those required by the National Institute of Standards and Technology (NIST) and the Federal Information Security Management Act (FISMA).

RETENTION AND DISPOSAL:

The information in this system is limited to electronic files, records, and data, which includes:

(1) The information that pertains to current filing requirements; and

(2) the information that pertains to historical records, which is used for archival purposes. The agency records control schedule N1-173-86-2, approved by NARA, authorizes permanent retention of original documents of information reported pursuant to Sections 73.3613 and 73.3615 of the Commission's rules, including ownership reports (FCC Form 323). Until NARA approves an appropriate records schedule, any information in this system that is not covered by the agency records control schedule N1-173-86-2 will also be treated as permanent.

SYSTEM MANAGER(S) AND ADDRESS(ES):

Media Bureau (MB), Federal Communications Commission (FCC), 445 12th Street SW., Washington, DC 20554.

NOTIFICATION PROCEDURE:

Individuals wishing to determine whether this system of records contains information about them may do so by writing to Leslie F. Smith, Privacy Manager, Information Technology (IT), Federal Communications Commission (FCC), 445 12th Street SW., Washington, DC 20554 or Leslie.Smith@fcc.gov.

Individuals must furnish reasonable identification by showing any two of the following: Social security card; driver's license; employee identification card; Medicare card; birth certificate; bank credit card; or other positive means of identification, or by signing an identity statement stipulating that knowingly or willfully seeking or obtaining access to records about another person under false pretenses is punishable by a fine of up to $5,000.

Individuals requesting access must also comply with the FCC's Privacy Act regulations regarding verification of identity and access to records (5 CFR part 0, subpart E).

RECORD ACCESS PROCEDURES:

Access to Form 323 and Form 323-E submissions is available through the Commission's Web site as stated above, at https://www.fcc.gov/media/filing-systems-and-databases. Form 2100, Schedule 323, and Form 2100, Schedule 323-E—the revised versions of Forms 323 and 323-E, respectively—will be implemented in LMS, and documents filed in LMS are publicly available through the Commission's Web site. Individuals wishing to obtain additional information about records in this system should follow the Notification Procedure above.

CONTESTING RECORD PROCEDURES:

Individuals wishing to contest information pertaining to them in the system of records should follow the Notification Procedure above.

RECORD SOURCE CATEGORIES:

The sources for the information in this system are all entities that are required to file an ownership report, either biennially or at other occasions, under 47 CFR 73.3615, 73.6026, and 74.797 of the Commission's rules, and include but are not limited to:

(1) Licensees, permittees, and respondents, and other individuals or entities with interests therein that are required to file or have their interests reported on:

(a) FCC Form 2100, Schedule 323, “Ownership Report for Commercial Broadcast Station” (formerly Form 323) pursuant to 47 CFR 73.3615, 73.6026, and 74.797; and/or

(b) FCC Form 2100, Schedule 323-E, “Ownership Report for Noncommercial Broadcast Stations” (formerly Form 323-E) pursuant to 47 CFR 73.3615;

(2) Contact individuals reported on:

(a) Form 2100, Schedule 323 (formerly Form 323), e.g., representatives, relating to commercial AM, FM, and television (full power, Class A, and low power) broadcast stations, and/or newspapers that are subject to the Commission's media ownership rules, as required under 47 CFR 73.3555, etc.; and/or

(b) Form 2100, Schedule 323-E (formerly Form 323-E), e.g., representatives, relating to noncommercial AM, FM, and full-power television broadcast stations;

(3) Individuals with ownership or attributable interests in media companies subject to the Commission's ownership rules or otherwise required to be reported on Form 2100, Schedule 323 (formerly Form 323), and/or Form 2100, Schedule 323-E (formerly Form 323-E); and

(4) Individuals who are married to or related (i.e., parent-child or siblings, etc.) to other individuals who have attributable, reportable, and/or ownership interests and who must either file Form 2100, Schedule 323 (formerly Form 323), or have their interests reported on Form 2100, Schedule 323 (formerly Form 323).

EXEMPTIONS CLAIMED FOR THE SYSTEM:

None.

Federal Communications Commission.
Marlene H. Dortch,
Secretary.

[FR Doc. 2016-25314 Filed 10-18-16; 8:45 am]

BILLING CODE 6712-01-P